DEPARTMENT OF THE TREASURY

Submission for OMB Review; Comment Request

December 19, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 27, 2003 to be assured of consideration.

Financial Management Service (FMS)

OMB Number: 1510-0042.

Form Number: SF 1055.

Type of Review: Extension.

Title: Claims Against the U.S. for Amounts Due in Case of a Deceased Credit.

Description: This form is required to determine who is entitled to funds of a deceased Postal Savings depositor or deceased awardholder. The form properly completed with supporting documents enables this office to decide who is legally entitled to payment.

Respondents: Individuals or households.

Estimated Number of Respondents: 400.

Estimated Burden Hours Per Respondent: 1 hour.

Frequency of Response: Other (as needed).

Estimated Total Reporting Burden: 400 hours.

Clearance Officer: Juanita Holder, Financial Management Service, 3700 East West Highway, Room 135, PGP II, Hyattsville, MD 20782.

OMB Reviewer: Joseph F. Lackey, Jr. (202) 395-7316, Office of Management and Budget, Room 10235, New Executive Office Building, Washington, DC 20503.

Mary A. Able,
Departmental Reports Management Officer.

[FR Doc. 02-32636 Filed 12-26-02; 8:45 am]

BILLING CODE 4810-35-P